NATIONAL SCIENCE FOUNDATION

Proposal Review Panel for Ocean Sciences; Notice of Meeting

In accordance with the Federal Advisory Committee Act (Pub. L. 92-463, as amended), the National Science Foundation (NSF) announces the following meeting.

Name: Proposal Review Panel for Ocean Sciences (#10752).

Date & Time: July 10, 2013—10:00 a.m.-7:00 p.m. July 11, 2013—8:00 a.m.-6:30 p.m. July 12, 2013—8:00 a.m.-6:30 p.m.

Place: The University of California's Gump Laboratory, Moorea, French Ploynesia.

Type of Meeting: Partially Closed.

Contact Person: David L. Garrison, Division of Ocean Sciences, National Science Foundation, 4201 Wilson Blvd., Arlington, VA 22230. Telephone (703) 292-8583.

Purpose of Meeting: Formal fourth year review of the Moorea Coral Reef Long-Term Ecological Research Project.

Agenda

Wednesday, July 10, 2013

10:00 a.m.-2:00 p.m.—Information Technology meeting (closed).

2:00 p.m.-3:00 p.m.—Welcome by the Gump station director (open).

3:00 p.m.-7:00 p.m.—NSF meeting with Mid Term Review Panel (closed).

Thursday, July 11, 2013

8:00 a.m.-12:00 n—Field Trip 1 (closed).

1:00 p.m.-4:30 p.m.—Research Presentations (open).

4:30 p.m.-5:30 p.m.—Demonstrations—Moorea Coral Reef (MCR) dry lab and wet lab (closed).

5:30 p.m.-6:30 p.m.—Graduate student/Post doc poster session (open).

Friday, July 12, 2013

8:00 a.m.-10:00 a.m.—Field Trip 2 (closed).

10:00 a.m.-12:00 n—Site presentations (open).

Information Management

Outreach, Education & Training

Cross-site and International Activities

Project Management

1:00 p.m.-5:30 p.m.—Mid Term Review panel report (closed).

5:30 p.m.-6:30 p.m.—Report to MCR (closed).

Reason for Closing: During closed sessions the review will include information of a confidential nature, including technical and financial information. These matters are exempt under 5 U.S.C. 552b(c), (4) and (6) of the Government in The Sunshine Act.

Dated: June 14, 2013.
Susanne Bolton,
Committee Management Officer.

[FR Doc. 2013-14677 Filed 6-19-13; 8:45 am]

BILLING CODE 7555-01-P